DEPARTMENT OF HEALTH AND HUMAN SERVICES

National Institutes of Health

Privacy Act of 1974; Altered System of Records

AGENCY: National Institutes of Health (NIH), HHS.

ACTION: Notification of altered system of records.

SUMMARY: In accordance with the requirements of the Privacy Act, the National Institutes of Health is publishing a notice of a proposal to alter the system of records 09-25-0165, “National Institutes of Health Loan Repayment Program HHS/NIH/OD.” The main purposes of the major alteration include: (1) Addition of new programs, (2) change of the system name to 09-25-0165, “National Institutes of Health Office of Loan Repayment and Scholarship (OLRS) Records System, HHS/NIH/OD,” (3) the addition of applicants, participants and individuals interested in scholarship or loan repayment programs of the NIH to “Categories of Individuals Covered by the System;” and (4) two new and two modified routine uses to reflect the added programs.

DATES: The NIH invites interested parties to submit comments on the proposed uses on or before February 24, 2000. The NIH has sent a Report of the Altered System to the Congress and to the Office of Management and Budget (OMB) on January 19, 2000. The alteration of this system of records will be effective 40 days from the date submitted to the OMB, unless NIH receives comments which would result in a contrary determination.

ADDRESSES: Please address comments to: NIH Privacy Act Officer, 6011 Executive Boulevard, Room 601, MSC 7669, Rockville, MD 20852, (301) 496-2832. (This is not a toll-free number). Comments received will be available for inspection at this same address from 9 a.m. to 3 p.m., Monday through Friday.

FOR FURTHER INFORMATION CONTACT: Marc S. Horowitz, J.D., Director, Office of Loan Repayment and Scholarship, National Institutes of Health, 7550 Wisconsin Avenue, Room 604, Bethesda, MD 20814-9121, (800) 528-7689 (toll-free number).

SUPPLEMENTARY INFORMATION: Sections 487A-C, and E of the Public Health Service (PHS) Act (42 U.S.C. 288-1, 2, 3, and 5), as amended, authorizes the Secretary to implement and establish programs of entering into agreements with appropriately qualified health professionals under which such health professionals agree to conduct research, as employees of the NIH or to conduct research with respect to contraception or infertility as employees or affiliates of the National Institute of Child Health and Human Development (NICHD) Intramural Laboratories and NICHD Extramural sites, in consideration of the Federal Government agreeing to repay, for each year of service, not more than $35,000 of the principal and interest of the educational loans of such health professionals. These programs include the following: (1) The NIH AIDS Research Loan Repayment Program, (2) the NIH General Research Loan Repayment Program, (3) the NIH Clinical Research Loan Repayment Program for Individuals from Disadvantaged Backgrounds, and (4) the Contraceptive and Infertility Research Loan Repayment Program.

Section 487D of the PHS Act (42 U.S.C 288-4) authorizes a scholarship program for individuals who agree to pursue, as undergraduates, academic programs appropriate for careers in professions needed by the NIH and who agree to serve as NIH employees in exchange for receipt of the scholarship. This program is known as the NIH Undergraduate Scholarship Program (UGSP) for Individuals from Disadvantaged Backgrounds.

The NIH is recommending this proposed major alteration to expand system coverage for three new programs: (1) The General Research Loan Repayment Program, (2) the Contraceptive and Infertility Research Loan Repayment Program, and (3) the Undergraduate Scholarship Program. The proposed name change for this system of records to “National Institutes of Health (NIH) Office of Loan Repayment and Scholarship (OLRS) Records System, HHS/NIH/OD,” is recommended to reflect the addition of records authorized by Sections 487B-D of the Public Health Service Act (42 U.S.C. 288-2, 288-3, and 288-4), as added June 10, 1993, by Pub. L. 103-43. NIH is proposing to change the “Categories of Individuals Covered by the System” to include applicants, participants and individuals interested in scholarship or loan repayment programs of the NIH. The proposed “Categories of Records in the System” adds (a) program application and associated forms; (b) academic and research progress reports (which include related data, correspondence, and professional performance information consisting of continuing education, performance awards, and adverse or disciplinary actions); (c) financial data, including loan balances, deferment, forbearance, and repayment/delinquent/default status information; (d) commercial credit reports; and (e) educational data including tuition and other expenses, and academic programs and class standing.

In addition, two new routine uses and two modified routine uses are proposed: (a) New Routine Use No. 16—the disclosure of identifying information to: Designated coordinators at schools participating in the scholarship program for the purpose of determining educational expenses and resulting levels of scholarship support, and guiding and informing these recipients about the nature of their professional service obligation to the NIH; and to medical and graduate schools, attended by UGSP scholars who have elected to defer their service obligation, for the purpose of determining their academic status and verifying the validity of the NIH UGSP service deferment; (b) New Routine Use No. 17—the disclosure of records to Department contractors and subcontractors for the purpose of recruiting, screening, and matching health professionals for NIH employment in qualified research positions under the NIH Loan Repayment and Scholarship Programs (LRSPs); (c) Modified Routine Use No. 8—the disclosure of identifying information to a consumer reporting agency (credit bureau) to obtain an applicant's or participant's commercial credit report to: (1) Establish his/her creditworthiness, (2) assess and verify his/her ability to repay debts owed to the Federal Government, and (3) determine and verify the eligibility of loans submitted for repayment; and (d) Modified Routine Use No. 15—the disclosure of information provided by a lender or educational institution to other Federal agencies, debt collection agents, and other third parties who are authorized to collect a Federal debt. The purpose of this disclosure is to identify an individual who is delinquent in loan or benefit payments owed to the Federal Government.

Only authorized users will have access to the records contained in the system. Authorized users include the following: system managers and their staffs, OLRS staff, financial, fiscal and records management personnel, legal personnel, computer personnel, and NIH contractors and subcontractors, all of whom are responsible for administering or monitoring the LRSPs. Access is limited to those individuals trained in accordance with Privacy Act procedures. Contractors will be required to maintain, and will also be required to ensure that subcontractors maintain confidentiality safeguards with respect to the records covered by this system.

The 09-25-0165 system notice was last published in the Federal Register on January 20, 1995. We are republishing the system notice in its entirety below to incorporate the proposed changes.

The following notice is written in the present tense, rather than the future tense, in order to avoid the unnecessary expenditure of public funds to republish the notice after the system has become effective.

Dated: January 14, 2000.
Anthony L. Itteilag,
Deputy Director for Management, National Institutes of Health.

09-25-0165

SYSTEM NAME:

“National Institutes of Health (NIH) Office of Loan Repayment and Scholarship (OLRS) Records System, HHS/NIH/OD.”

SECURITY CLASSIFICATION:

None.

SYSTEM LOCATION:

Office of Loan Repayment and Scholarship (OLRS), National Institutes of Health, 7550 Wisconsin Avenue, Rooms 604 & B1-16, Bethesda, Maryland 20814-9121.

See Appendix I for a listing of NIH offices responsible for administration of the NIH LRSPs. Write to the System Manager at the address below for the address of any Federal Records Center where records from this system may be stored.

CATEGORIES OF INDIVIDUALS COVERED BY THE SYSTEM:

Individuals who have applied for, who have been approved to receive, who are receiving, or who have received funds under the NIH LRSPs; and individuals who are interested in participation in the NIH LRSPs.

CATEGORIES OF RECORDS IN THE SYSTEM:

Name, address, Social Security number (SSN), program application and associated forms, service pay-back obligations, employment data, professional performance and credentialing history of licensed health professionals; personal, professional, and demographic background information; academic and research progress reports (which include related data, correspondence, and professional performance information consisting of continuing education, performance awards, and adverse or disciplinary actions); standard school budgets; financial data including loan balances, deferment, forbearance, and repayment/delinquent/default status information; commercial credit reports; educational data including tuition and other related educational expenses; educational data including academic program and status; employment status verification (which includes certifications and verifications of continuing participation in qualified research); Federal, State and local tax related information, including copies of tax returns.

AUTHORITY FOR MAINTENANCE OF THE SYSTEM:

Sections 487A-E (42 U.S.C. 288-1, 288-2, 288-3, 288-4, 288-5) of the PHS Act, as amended, authorize the NIH to establish and implement (a) multiple programs of educational loan repayment for qualified health professionals who agree to conduct research, subject to each program's specific statutory requirements; and (b) a scholarship program for undergraduates who agree to pursue academic programs appropriate for careers in professions needed by the NIH and who agree to serve as NIH employees. The provisions of subpart III of part D of title III of the PHS Act (42 U.S.C. 254l et seq.), as amended, governing the National Health Service Corps (NHSC) loan repayment and scholarship programs, are incorporated in these authorities, except as inconsistent with Sections 487A-E. The Internal Revenue Code at 26 U.S.C. 6109 requires the provision of the SSN for the receipt of loan repayment and scholarship funds under the NIH LRSPs. The Federal Debt Collection Procedures Act of 1990, Public Law 101-647 (28 U.S.C. 3201) requires that an individual who has a judgement lien against his/her property for a debt to the United States shall not be eligible to receive funds directly from the Federal Government in any program, except funds to which the debtor is entitled as a beneficiary, until the judgement is paid in full or otherwise satisfied. Thus, individuals applying to the LRSPs are required to disclose in their applications whether they have a judgement lien against them arising from a debt to the United States.

PURPOSE(S):

These records are used to: (1) Identify and select applicants for the NIH LRSPs; (2) monitor loan repayment and scholarship activities, such as payment tracking, academic status and performance, research and related services, deferment of service obligation, and default; and (3) assist NIH officials in the collection of overdue debts owed under the NIH LRSPs. Records may be transferred to System No. 09-15-0045, “Health Resources and Services Administration Loan Repayment/Debt Management Records System, HHS/HRSA/OA,” for debt collection purposes when NIH officials are unable to collect overdue debts owed under the NIH LRSPs.

ROUTINE USES OF RECORDS MAINTAINED IN THE SYSTEM, INCLUDING CATEGORIES OF USERS AND THE PURPOSES OF SUCH USE:

1. Disclosure may be made to a Member of Congress or to a Congressional staff member in response to an inquiry of the Congressional office made at the written request of the constituent about whom the record is maintained.

2. The Department of Health and Human Services (HHS) may disclose information from this system of records to the Department of Justice, or to a court or other tribunal when: (a) HHS or any component thereof; or (b) any HHS employee in his or her official capacity; or (c) any HHS employee in his or her individual capacity where the Department of Justice (or HHS, where it is authorized to do so) has agreed to represent the employee; or (d) the United States Government, is a party to litigation or has an interest in such litigation, and by careful review, HHS determines that the records are both relevant and necessary to the litigation and the use of such records by the Department of Justice is therefore deemed by HHS to be for a purpose that is compatible with the purpose for which the records were collected.

3. When a record on its face, or in conjunction with other records, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative or prosecutive responsibility of the receiving entity.

4. The NIH may disclose records to HHS contractors and subcontractors for the purpose of collecting, compiling, aggregating, analyzing, or refining records in the system. Contractors maintain, and are also required to ensure that subcontractors maintain, Privacy Act safeguards with respect to such records.

5. The NIH may disclose information from this system of records to private parties such as present and former employers, references listed on applications and associated forms, other references and educational institutions. The purpose of such disclosures is to evaluate an individual's professional and or academic accomplishments and plans, performance, credentials, and educational background, and to determine if an applicant is suitable for participation in the NIH LRSPs.

6. The NIH will disclose information from this system of records to a consumer reporting agency (credit bureau) to obtain an applicant or participant's commercial credit report for the following purposes: (1) To establish his/her creditworthiness; (2) To assess and verify his/her ability to repay debts owed to the Federal Government; and (3) To determine and verify the eligibility of loans submitted for repayment. Disclosures are limited to the individual's name, address, Social Security number and other information necessary to identify him/her; the funding being sought or amount and status of the debt; and the program under which the applicant or claim is being processed.

7. The NIH may disclose from this system of records a delinquent debtor's or a defaulting participant's name, address, Social Security number, and other information necessary to identify him/her; the amount, status, and history of the claim, and the agency or program under which the claim arose, as follows:

a. To another Federal agency so that agency can effect a salary offset for debts owed by Federal employees; if the claim arose under the Social Security Act, the employee must have agreed in writing to the salary offset.

b. To another Federal agency so that agency can effect an authorized administrative offset; i.e., withhold money, other than Federal salaries, payable to or held on behalf of the individual.

c. To the Treasury Department, Internal Revenue Service (IRS), to request an individual's current mailing address to locate him/her for purposes of either collecting or compromising a debt, or to have a commercial credit report prepared.

8. The NIH may disclose information from this system of records to another agency that has asked the HHS to effect a salary or administrative offset to help collect a debt owed to the United States. Disclosure is limited to the individual's name, address, Social Security number, and other information necessary to identify the individual, information about the money payable to or held for the individual, and other information concerning the offset.

9. The NIH may disclose to the IRS information about an individual applying for any NIH loan repayment or scholarship program authorized by the Public Health Service Act to find out whether the applicant has a delinquent tax account. This disclosure is for the sole purpose of determining the applicant's creditworthiness and is limited to the individual's name, address, Social Security number, other information necessary to identify him/her, and the program for which the information is being obtained.

10. The NIH may report to the IRS, as taxable income, the written-off amount of a debt owed by an individual to the Federal Government when a debt becomes partly or wholly uncollectible, either because the time period for collection under statute or regulations has expired, or because the Government agrees with the individual to forgive or compromise the debt.

11. The NIH may disclose to debt collection agents, other Federal agencies, and other third parties who are authorized to collect a Federal debt, information necessary to identify a delinquent debtor or a defaulting participant. Disclosure will be limited to the individual's name, address, Social Security number, and other information necessary to identify him/her; the amount, status, and history of the claim, and the agency or program under which the claim arose.

12. The NIH may disclose information from this system of records to any third party that may have information about a delinquent debtor's or a defaulting participant's current address, such as a U.S. post office, a State motor vehicle administration, a professional organization, an alumni association, etc., for the purpose of obtaining the individual's current address. This disclosure will be strictly limited to information necessary to identify the individual, without any reference to the reason for the agency's need for obtaining the current address.

13. The NIH may disclose information from this system of records to other Federal agencies that also provide loan repayment or scholarship at the request of these Federal agencies in conjunction with a matching program conducted by these Federal agencies to detect or curtail fraud and abuse in Federal loan repayment or scholarship programs, and to collect delinquent loans or benefit payments owed to the Federal Government.

14. The NIH will disclose from this system of records to the Department of Treasury, IRS: (1) A delinquent debtor's or a defaulting participant's name, address, Social Security number, and other information necessary to identify the individual; (2) the amount of the debt; and (3) the program under which the debt arose, so that the IRS can offset against the debt any income tax refunds which may be due to the individual.

15. The NIH may disclose information provided by a lender or educational institution to other Federal agencies, debt collection agents, and other third parties who are authorized to collect a Federal debt. The purpose of this disclosure is to identify an individual who is delinquent in loan or benefit payments owed to the Federal Government and the nature of the debt.

16. The NIH will disclose records consisting of names, disciplines, current mailing addresses, and dates of scholarship support and dates of graduation of scholarship recipients to: (a) Designated coordinators at each school participating in the scholarship program for the purpose of determining educational expenses and resulting levels of scholarship support, and for the purpose of guiding and informing these recipients about the nature of their service obligations to the NIH; and (b) medical and graduate schools, attended by UGSP scholars who have elected to defer their service obligation, for the purpose of determining their academic status and verifying the validity of the NIH UGSP service deferment.

17. The NIH may disclose records to HHS contractors and subcontractors for the purpose of recruiting, screening, and matching health professionals for NIH employment in qualified research positions under the NIH LRSPs. In addition, HHS contractors and subcontractors: (1) may disclose biographic data and information supplied by potential applicants (a) to references listed on application and associated forms for the purpose of evaluating the applicant's professional qualifications, experience, and suitability, and (b) to a State or local government medical licensing board and/or to the Federation of State Medical Boards or a similar nongovernment entity for the purpose of verifying that all claimed background and employment data are valid and all claimed credentials are current and in good standing; (2) may disclose biographic data and information supplied by references listed on application and associated forms to other references for the purpose of inquiring into the applicant's professional qualifications and suitability; and (3) may disclose professional suitability evaluation information to NIH officials for the purpose of appraising the applicant's professional qualifications and suitability for participation in the NIH LRSPs. Contractors maintain, and are also required to ensure that subcontractors maintain, Privacy Act safeguards with respect to such records.

DISCLOSURE TO CONSUMER REPORTING AGENCIES:

Disclosures pursuant to 5 U.S.C. 552a(b)(12): Disclosures may be made from this system to “consumer reporting agencies” as defined in the Federal Claims Collection Act of 1966, as amended (31 U.S.C. 3701(a)(3)). The purposes of these disclosures are: (1) To provide an incentive for debtors to repay delinquent debts to the Federal Government by making these debts part of their credit records, and (2) to enable NIH to improve the quality of loan repayment and scholarship decisions by taking into account the financial reliability of applicants, including obtaining a commercial credit report to assess and verify the ability of an individual to repay debts owed to the Federal Government. Disclosure of records will be limited to the individual's name, Social Security number, and other information necessary to establish the identity of the individual, the amount, status, and history of the claim, and the agency or program under which the claim arose.

POLICIES AND PRACTICES FOR STORING, RETRIEVING, ACCESSING, RETAINING, AND DISPOSING OF RECORDS IN THE SYSTEM:

STORAGE:

Records are maintained in file folders, file cards, microfiche and electronic media, including computer tape, discs, servers connected to local area networks, and Internet servers.

RETRIEVABILITY:

Records are retrieved by name, NIH Institutes and Centers, Social Security number, or other identifying numbers or characteristics.

SAFEGUARDS:

1. Authorized Users: Access to information is limited to authorized personnel in the performance of their duties. Authorized personnel include system managers and their staffs, NIH OLRS officials and staff, financial, fiscal and records management personnel, legal personnel, computer personnel, and NIH contractors and subcontractors—all of whom are responsible for administering the NIH LRSPs.

2. Physical Safeguards: Rooms where records are stored are locked when not in use. During regular business hours rooms are unlocked but are controlled by on-site personnel. Security guards perform random checks on the physical security of the storage locations after duty hours, including weekends and holidays.

3. Procedural and Technical Safeguards: A password is required to access the terminal and a data set name controls the release of data to only authorized users. All users of personal information in connection with the performance of their jobs (see Authorized Users, above) protect information from public view and from unauthorized personnel entering an unsupervised office. Data on local area network computer files is accessed by keyword known only to authorized personnel. Codes by which automated files may be accessed are changed periodically. This procedure also includes deletion of access codes when employees or contractors leave. New employees and contractors are briefed and the security department is notified of all staff members and contractors authorized to be in secured areas during working and nonworking hours. This list is revised as necessary. Individuals remotely accessing the secured areas of the OLRS Internet sites have separate accounts and passwords. Passwords are assigned by project staff and may include both alphabetic and non-alphabetic characters. These practices are in compliance with the standards of Chapter 45-13 of the HHS General Administration Manual, “Safeguarding Records Contained in Systems of Records,” supplementary Chapter PHS hf: 45-13, and the Department's Automated Information System Security Handbook.

RETENTION AND DISPOSAL:

Records are retained and disposed of under the authority of the NIH Records Control Schedule contained in NIH Manual Chapter 1743, Appendix 1—“Keeping and Destroying Records” (HHS Records Management Manual, Appendix B-361), item 2300-537-1. Participant case files are transferred to a Federal Records Center one year after closeout and destroyed five years later. Closeout is the process by which it is determined that all applicable administrative actions and disbursements of benefits have been completed by the OLRS and service obligations have been completed by the participant. Applicant case files are destroyed three years after disapproval or withdrawal of their application. Appeal and litigation case files are destroyed six years after the calendar year in which the case is closed. Other copies of these files are destroyed two years after the calendar year in which the case is closed.

SYSTEM MANAGER AND ADDRESS:

Director, Office of Loan Repayment and Scholarship, National Institutes of Health, 7550 Wisconsin Avenue, Room 604, Bethesda, Maryland 20814-9121.

NOTIFICATION PROCEDURES:

To determine if a record exists, write to the System Manager listed above. A written request must contain the name and address of the requester, Social Security number, and his/her signature which is either notarized to verify his/her identity or includes a written certification that the requester is the person he/she claims to be and that he/she understands that the knowing and willful request or acquisition of records pertaining to an individual under false pretenses is a criminal offense subject to a $5,000 fine. In addition, the following information is needed: dates of enrollment in the NIH LRSPs and current enrollment status, such as pending application approval or approved for participation.

An individual who appears in person at a specific location seeking access to or disclosure of records relating to him/her shall provide his/her name, current address, Social Security number, dates of enrollment in an NIH loan repayment or scholarship program, and at least one piece of tangible identification, such as driver's license, passport, or voter registration card. Identification papers with current photographs are preferred but not required. If an individual has no identification papers but is personally known to an agency employee, such employees shall make a written record verifying the individual's identity. Where the individual has no identification papers, the responsible agency official shall require that the individual certify in writing that he/she is the individual who he/she claims to be and that he/she understands that the knowing and willful request or acquisition of a record concerning an individual under false pretenses is a criminal offense subject to a $5,000 fine. Since positive identification of the caller or sender cannot be established, telephone and electronic mail requests are not honored.

RECORD ACCESS PROCEDURES:

Write to the System Manager specified above to attain access to records and provide the same information as is required under the Notification Procedures. Requesters should also reasonably specify the record contents being sought. Individuals may also request an accounting of disclosures of their records, if any.

CONTESTING RECORD PROCEDURES:

Contact the System Manager specified above and reasonably identify the record, specify the information to be contested, the corrective action sought, and your reasons for requesting the correction, along with supporting information to show how the record is inaccurate, incomplete, untimely or irrelevant. The right to contest records is limited to information which is incomplete, irrelevant, incorrect, or untimely (obsolete).

RECORD SOURCE CATEGORIES:

Subject individual; participating lending and loan servicing institutions; educational institutions; other Federal agencies; consumer reporting agencies/credit bureaus; and third parties that provide references concerning the subject individual.

SYSTEMS EXEMPTED FROM CERTAIN PROVISIONS OF THE ACT:

None.

Appendix I: System Locations

Office of Loan Repayment and Scholarship, National Institutes of Health, 7550 Wisconsin Avenue, Room 604, Bethesda, Maryland 20814-9121

Center for Information Technology, National Institutes of Health, Building 12A, Room 1011, 9000 Rockville Pike, Bethesda, Maryland 20892

Clinical Center, National Institutes of Health, 6100 Executive Boulevard, Room 3E01, Bethesda, MD 20892-7509

National Cancer Institute, National Institutes of Health, Building 31, Room 11A19, 9000 Rockville Pike, Bethesda, MD 20892-2590

National Heart, Lung, and Blood Institute, National Institutes of Health, Building 10, Room 7N220, 9000 Rockville Pike, Bethesda, MD 20892-1670

National Institute of Dental and Craniofacial Research, National Institutes of Health, Building 31, Room 2C23, 9000 Rockville Pike, Bethesda, MD 20892-2290

National Institute of Diabetes and Digestive and Kidney Diseases, National Institutes of Health, Building 10, Room 9N222, 9000 Rockville Pike, Bethesda, MD 20892-1818

National Institute of Neurological Disorders and Stroke, National Institutes of Health, Building 10, Room 5N220, 9000 Rockville Pike, Bethesda, MD 20892-4152

National Institute of Allergy and Infectious Diseases, National Institutes of Health, Building 31, Room 7A05, 9000 Rockville Pike, Bethesda, MD 20892-2520

National Institute of Mental Health, National Institutes of Health, Building 10, Room 4N222, 9000 Rockville Pike, Bethesda, MD 20892

National Institute of General Medical Sciences, Pharmacological Sciences Program, National Institutes of Health, Building 45, Room 2AS-43, 9000 Rockville Pike, Bethesda, MD 20892-6200

National Institute of Child Health and Human Development, National Institutes of Health, Building 31, Room 2A25, 9000 Rockville Pike, Bethesda, MD 20892

National Institute of Child Health and Human Development, National Institutes of Health, Building 61E, Room 8B01A, Bethesda, MD 20892

National Eye Institute, National Institutes of Health, Building 10, Room 10N202, 9000 Rockville Pike, Bethesda, MD 20892-1858

National Institute of Environmental Health Sciences, National Institutes of Health, South Campus, Building 101, Room A-210, 111 Alexander Drive, Research Triangle Park, NC 27709

National Institute on Aging, Gerontology Research Center, National Institutes of Health, 4940 Eastern Avenue, Baltimore, MD 21224

National Institute of Arthritis and Musculoskeletal and Skin Diseases, National Institutes of Health, Building 45, Room 5AN40, 9000 Rockville Pike, Bethesda, MD 20892

National Institute of Deafness and Communication Disorders, National Institutes of Health, Building 31, Room 3C02, 9000 Rockville Pike, Bethesda, MD 20892-2320

National Institute on Drug Abuse, National Institutes of Health, Parklawn Building, Room 9A30, 5600 Fishers Lane, Rockville, MD 20857

National Center for Research Resources, National Institutes of Health, One Rockledge Center, Room 6070, 6705 Rockledge Drive, Bethesda, MD 20892-7965

National Institute for Nursing Research, National Institutes of Health, Building 31, Room 5B25, 9000 Rockville Pike, Bethesda, MD 20892-2178

National Institute on Alcohol Abuse and Alcoholism, National Institutes of Health, Building 31, Room 1B58, 9000 Rockville Pike, Bethesda, MD 20892-2088

National Human Genome Research Institute, National Institutes of Health, 49 Covent Drive, Building 49, Room 4A06, 9000 Rockville Pike, Bethesda, MD 20892-4470

Office of Financial Management, National Institutes of Health, Building 31, Room B1B47, 9000 Rockville Pike, Bethesda, Maryland 20892

[FR Doc. 00-1689 Filed 1-24-00; 8:45 am]

BILLING CODE 4140-01-P